DEPARTMENT OF STATE

[Public Notice 4071]

Bureau of Nonproliferation; Imposition of Nonproliferation Measures Against Entities in the People's Republic of China and in India

AGENCY: Department of State.

ACTION: Notice.

SUMMARY: A determination has been made that the following persons have engaged in proliferation activities that require the imposition of measures pursuant to the Iran-Iraq Arms Non-Proliferation Act of 1992 and/or the chemical/biological nonproliferation provisions of the Arms Export Control Act and the Export Administration Act of 1979 (as continued by E.O. 13222 of August 17, 2001).

EFFECTIVE DATE: July 9, 2002.

FOR FURTHER INFORMATION CONTACT: On general issues: Ron Parson, Bureau of Nonproliferation, Department of State, (202-647-0397). On U.S. Government procurement ban issues: Gladys Gines, Office of the Procurement Executive, Department of State, (703-516-1691).

SUPPLEMENTARY INFORMATION: Pursuant to provisions of Section 1604 of the Iran-Iraq Arms Non-Proliferation Act of 1992 (Pub. L. 102-484), the President's Memorandum Delegation of Authority dated September 27, 1994 (59 FR 50685), and State Department Delegation of Authority No. 145 of February 4, 1980, as amended, the Under Secretary of State for Arms Control and International Security Affairs has determined that the following persons have engaged in proliferation activities that require the imposition of measures as described in section 1604(b) of the Iran-Iraq Arms Non-Proliferation Act of 1992 (Pub. L. 102-484).

Jiangsu Yongli Chemicals and Technology Import and Export Corporation (China), or any successor entities, parents or subsidiaries;

Q.C. Chen (China);

China Machinery and Equipment Import Export Corporation (China) and any successor entities, parents or subsidiaries;

China National Machinery and Equipment Import Export Corporation (China) and any successor entities, parents, or subsidiaries;

CMEC Machinery and Electric Equipment Import and Export Company Ltd. (China) and any successor entities, parents, or subsidiaries;

CMEC Machinery and Electrical Import Export Company, Ltd. (China) and any successor entities, parents, or subsidiaries;

China Machinery and Electric Equipment Import and Export Company (China) and any successor entities, parents, or subsidiaries;

Wha Cheong Tai Company Ltd. (China) and any successor entities, parents, or subsidiaries;

China Shipbuilding Trading Company (China) and any successor entities, parents, or subsidiaries;

Hans Raj Shiv (previously residing in India, and last believed to be in the Middle East).

Accordingly, until further notice and pursuant to the provisions of section 1604(b) of the Iran-Iraq Arms Non-Proliferation Act of 1992 (Pub. L. 102-484), the following measures are imposed on these persons:

1. For a period of two years, the United States Government shall not procure, or enter into any contract for the procurement of, any goods, or services from the sanctioned person;

2. For a period of two years, the United States Government shall not issue any license for any export by or to the sanctioned person.

These measures shall be implemented by the responsible departments and agencies of the United States Government and will remain in place for two years, except to the extent subsequently determined otherwise.

Pursuant to section 81(a) of the Arms Export Control Act (22 U.S.C. 2798) and section 11C(a) of the Export Administration Act of 1979 (50 U.S.C. app 2410C (as continued by E.O. 13222 of August 17, 2001)), as amended by the Chemical and Biological Weapons Control and Warfare Elimination Act of 1991 (Pub. L. 102-182), Executive Order 12851 of June 11, 1993 (58 FR 113), and State Department Delegation of Authority No. 145 of February 4, 1980, as amended, the Under Secretary of State for Arms Control and International Security Affairs has determined that the following foreign persons have engaged in chemical weapons proliferation activities that require the imposition of measures as described in section 81(c) of the Arms Export Control Act (22 U.S.C. 2798) and sections 11C(c)(1) of the Export Administration Act of 1979 (50 U.S.C. app 2410C (as continued by E.O. 13222 of August 17, 2001)).

Jiangsu Yongli Chemicals and Technology Import and Export Corporation, and its successors (China);

Q.C. Chen (China);

China Machinery and Equipment Import Export Corporation, and its successors (China);

China National Machinery and Equipment Import Export Corporation, and its successors (China);

CMEC Machinery and Electric Equipment Import and Export Company Ltd., and its successors (China);

CMEC Machinery and Electrical Import Export Company, Ltd., and its successors (China);

China Machinery and Electric Equipment Import and Export Company, and its successors (China);

Wha Cheong Tai Company Ltd., and its successors (China);

Accordingly, until further notice and pursuant to the provisions of section 81 (c) of the Arms Export Control Act (22 U.S.C. 2798) and section 11C(c) of the Export Administration Act of 1979 (50 U.S.C. app 2410c (as continued by E.O. 13222 of August 17, 2001)), the following measures are imposed on these entities:

1. The United States Government shall not procure, or enter into any contract for the procurement of, any goods or services from the sanctioned persons;

2. The importation into the United States of products produced by the sanctioned persons shall be prohibited.

These measures shall be implemented by the responsible departments and agencies of the United States Government and will remain in place for at least one year until further notice.

Dated: July 19, 2002.
John S. Wolf,
Assistant Secretary of State for Nonproliferation, Department of State.

[FR Doc. 02-18852 Filed 7-24-02; 8:45 am]

BILLING CODE 4710-27-P